DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the proposed information collection project “TeamSTEPPS 3.0 Training Assessment.” In accordance with the Paperwork Reduction Act of 1995, AHRQ invites the public to comment on this proposed information collection.

DATES: Comments on this notice must be received by December 4, 2023.

ADDRESSES: Written comments should be submitted to: Doris Lefkowitz, Reports Clearance Officer, AHRQ, by email at doris.lefkowitz@AHRQ.hhs.gov.

FOR FURTHER INFORMATION CONTACT: Doris Lefkowitz, AHRQ Reports Clearance Officer, (301) 427-1477, or by email at doris.lefkowitz@AHRQ.hhs.gov.

SUPPLEMENTARY INFORMATION:

Proposed Project

TeamSTEPPS 3.0 Training Assessment

In 2006 the Agency for Healthcare Research and Quality (AHRQ) and the Department of Defense developed Strategies & Tools to Enhance Performance and Patient Safety, or TeamSTEPPS®, an evidence-based patient safety program. The main objective of the TeamSTEPPS program is to improve patient safety by training health care staff in various teamwork, communication, and patient safety concepts, tools, and techniques and ultimately helping to build national capacity for supporting teamwork-based patient safety efforts in health care organizations. Given the advancements in health information technology, changes in how care is delivered and a recent emphasis on engaging patients and families as members of the healthcare team, the TeamSTEPPS curriculum was significantly refreshed in 2023 and made into a singular comprehensive program to better support teams in improving their communication skills and collaboration.

The updated TeamSTEPPS training will now be implemented in different settings of various large and small healthcare and healthcare-related organization and institutions around the country. Following implementation of the updated training, an assessment for change in individuals and teams is necessary to examine the degree to which the updated TeamSTEPPS program enhances users experience, improves the teams' effectiveness, streamlines team communication and overall increases healthcare professionals' commitment to interdisciplinary teamwork.

This project has the following goals:

(1) Assess the overarching short-term (immediately after the training) impact of the TeamSTEPPS program to determine what improvements should be made to the training and how it is delivered, and

(2) Assess the long-term (3-9 months after the training) impact of the TeamSTEPPS program to determine how trained participants use and implement the TeamSTEPPS tools and resources.

This project is being conducted by AHRQ through its contractor, Chatham Communications, pursuant to AHRQ's statutory authority to conduct and support research on health care and on systems for the delivery of such care, including activities with respect to the quality, effectiveness, efficiency, appropriateness, and value of healthcare services and with respect to quality measurement and improvement. 42 U.S.C 299a(a)(1) and (2).

Method of Collection

To achieve the goals of this project the following data collections will be implemented:

Online surveys: Data will be collected from up to 30 trainees at each of 115 sites (i.e., up to 3,450 respondents) via online surveys. All trainees will be invited to complete the following online surveys:

(1) Baseline Survey (administered prior to training)

a. TeamSTEPPS Teamwork Attitudes Questionnaire (T-TAQ)

b. Knowledge assessment

c. Self-reported event rates

(2) Post-training Survey (administered immediately after training completion)

a. Participant Training Reactions and Experiences

b. TeamSTEPPS Teamwork Attitudes Questionnaire (T-TAQ)

c. Knowledge assessment

(3) Follow-up Survey (administered 3-9 months after training completion)

a. TeamSTEPPS Teamwork Perceptions Questionnaire (T-TAP)

b. Self-reported behavior/implementation activities

c. Facilitators and barriers to use of TeamSTEPPS concepts, tools, or strategies

d. Self-reported changes in awareness, policies, or processes

e. Self-reported event rates

Estimated Annual Respondent Burden

Exhibit 1 shows the estimated annualized burden hours for trainees' time to participate in this data collection. All trainees will complete:

(1) Pre-training Survey—estimated to take 20 minutes per response.

(2) Post-training Survey—estimated to take 20 minutes per response.

(3) Follow-up Survey—estimated to take 20 minutes per response.

The total annual burden hours are estimated to be 3,415.5 hours.

Exhibit 2 shows the estimated annualized cost burden associated with the respondents' time to participate in this data collection. The cost burden is estimated to be $155,889.06.

Exhibit 1—Estimated Annualized Burden Hours
Form name | Number of respondents | Number of responses per respondent | Hours per response | Total burden hours
Pre-training Survey | 3,450 | 1 | .33 | 1,138.5
Post-training Survey | 3,450 | 1 | .33 | 1,138.5
Follow-up Survey | 3,450 | 1 | .33 | 1,138.5
Total | 10,350 | N/A | N/A | 3,415.5

Exhibit 2—Estimated Annualized Cost Burden
Form name | Number of respondents | Total burden hours | Average hourly wage rate * | Total cost burden
Pre-training Survey | 3,450 | 1,138.5 | $46.52 | $52,963.02
Post-training Survey | 3,450 | 1,138.5 | 46.52 | 52,963.02
Follow-up Survey | 3,450 | 1,138.5 | 46.52 | 52,963.02
Total | 10,350 | 3,415.5 | N/A | 158,889.06
* Based on the mean of the average wages for all health professionals (29-0000): Occupational Wages in the United States, May 2022, U.S. Department of Labor, Bureau of Labor Statistics (https://www.bls.gov/oes/current/oes_nat.htm).

Request for Comments

In accordance with the Paperwork Reduction Act, 44 U.S.C. 3501-3520, comments on AHRQ's information collection are requested with regard to any of the following: (a) whether the proposed collection of information is necessary for the proper performance of AHRQ's health care research and health care information dissemination functions, including whether the information will have practical utility; (b) the accuracy of AHRQ's estimate of burden (including hours and costs) of the proposed collection(s) of information; (c) ways to enhance the quality, utility and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: September 29, 2023.
Marquita Cullom,
Associate Director.

[FR Doc. 2023-22089 Filed 10-3-23; 8:45 am]

BILLING CODE 4160-90-P